DEPARTMENT OF AGRICULTURE

Forest Service

Land Between the Lakes Advisory Board

AGENCY: Forest Service, USDA.

ACTION: Notice of meeting.

SUMMARY: The Land Between The Lakes Advisory Board (Board) will meet in Cadiz, Kentucky. The Board is established consistent with the Federal Advisory Committee Act of 1972 (5 U.S.C. App 2). Additional information concerning the Board can be found by visiting the Board's Web site at: http://www.lbl.org/LRMPadvisoryboard.html.

DATES: The meeting will be held Thursday, April 17, 2014 from 9:00 a.m. to 4:00 p.m. CST.

ADDRESSES: The meeting will be held at the Lake Barkley State Resort Park, 3500 State Park Road, Cadiz, Kentucky. Written comments may be submitted as described under Supplementary Information. All comments, including names and addresses when provided, are placed in the record and available for public inspection and copying. The public may inspect comments received at the Land Between The Lakes National Recreation Area. Please call ahead to facilitate entry into the building.

FOR FURTHER INFORMATION CONTACT: Linda L. Taylor, Advisory Board Liaison, Land Between The Lakes National Recreation Area, 100 Van Morgan Drive, Golden Pond, Kentucky 42211 or by phone at 270-924-2002.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to focus on existing Evnironmental Education programs and forest planning with regional school groups. The meeting is open to the public. The Board discussion is limited to Forest Service staff and board members. Individuals wishing to provide written comments should submit by April 10, 2014 in order for copies to be provided to the members for the meeting. Written comments must be sent to Tina Tilley, Area Supervisor, Land Between The Lakes National Recreation Area, 100 Van Morgan Drive, Golden Pond, Kentucky 42211. Board members will review written comments received, and at their request, oral clarification may be requested for a future meeting. Additional comments must be received, in writing on or before May 26, 2014.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: March 12, 2014.
Tina R. Tilley,
Area Supervisor, Land Between The Lakes.

[FR Doc. 2014-06171 Filed 3-20-14; 8:45 am]

BILLING CODE 3411-15-P